SECURITIES AND EXCHANGE COMMISSION

[Release No. 34-43507A; File No. SR-NASD-98-11]

Self-Regulatory Organizations; Extension of Comment Period for Proposed Rule Change and Amendment Nos. 1, 2 and 3 by the National Association of Securities Dealers, Inc. Concerning Related Performance Information

December 20, 2000.

This proposed rule change was originally published with a 45-day comment period.¹ Because the original notice contained a typographical error in the proposed new rule language, the Commission has decided to extend the comment period until January 18, 2001. The correction to the original document is being published simultaneously elsewhere in today's issue of the Federal Register.

¹ Securities Exchange Act Release No. 43507 (November 2, 2000) 65 FR 67025 (November 8, 2000).

For the Commission, by the Division of Market Regulation, pursuant to delegated authority.
Margaret H. McFarland,
Deputy Secretary.

[FR Doc. 00-32941 Filed 12-27-00; 8:45 am]

BILLING CODE 8010-01-M